DEPARTMENT OF COMMERCE

International Trade Administration

[A-570-918]

First Administrative Review of Steel Wire Garment Hangers From the People's Republic of China: Final Results and Final Partial Rescission of Antidumping Duty Administrative Review

AGENCY: Import Administration, International Trade Administration, Department of Commerce.

SUMMARY: On November 9, 2010, the Department of Commerce (“Department”) published in the Federal Register the preliminary results of the first administrative review of the antidumping duty order on steel wire garment hangers from the People's Republic of China (“PRC”).¹ We gave interested parties an opportunity to comment on the Preliminary Results. Based upon our analysis of the comments and information received, we made changes to the margin calculations for the final results. We continue to find that certain exporters have sold subject merchandise at less than normal value during the period of review (“POR”), March 25, 2008, through November 30, 2009.

¹ See Steel Wire Garment Hangers From the People's Republic of China: Preliminary Results and Preliminary Rescission, in Part, of the First Antidumping Duty Administrative Review, 75 FR 68758 (November 9, 2010) (“Preliminary Results”).

DATES: Effective Date: May 13, 2011.

FOR FURTHER INFORMATION CONTACT: Irene Gorelik or Josh Startup, AD/CVD Operations, Office 9, Import Administration, International Trade Administration, U.S. Department of Commerce, 14th Street and Constitution Avenue, NW., Washington, DC 20230; telephone: (202) 482-6905 or (202) 482-5260, respectively.

SUPPLEMENTARY INFORMATION:

Background

On November 9, 2010, the Department published in the Federal Register the Preliminary Results of this administrative review. On December 9, 2010, both M&B Metal Products Co., Inc. (“Petitioner”) and Shaoxing Dingli Metal Clotheshorse Co., Ltd., (“Dingli”) filed a request for a public hearing. On December 22, 2010, Petitioner submitted additional surrogate value (“SV”) information. On January 3, 2011, Dingli filed comments rebutting Petitioner's December 22, 2010, SV information. On January 7, 2011, the Department extended in the Federal Register the deadline for the final results by 60 days. See Steel Wire Garment Hangers From the People's Republic of China: Extension of Time Limit for Final Results of the Antidumping Duty Administrative Review, 76 FR 1134 (January 7, 2011).

On March 17, 2011, we reset the schedule for interested parties to submit case briefs and rebuttal briefs to March 24, 2011, and March 29, 2011, respectively. On March 17, 2011, the Department placed certain entry data, obtained from the U.S. Customs and Border Protection (“CBP”) with respect to Dingli, on the record and solicited comments from interested parties. Both Petitioner and Dingli filed comments regarding this data on March 21, 2011. Dingli filed rebuttal comments on March 23, 2011. On March 23, 2011, Shanghai Wells Hanger Co., Ltd.² (“Wells”) filed its case brief. On March 24, 2011, Petitioner, Dingli, Fabricare (U.S. importer), and one of the separate rate respondents filed case briefs.³ On April 1, 2011, Petitioner, Dingli, and the Shaoxing Metal Companies filed rebuttal briefs. The Department did not hold a public hearing pursuant to 19 CFR 351.310(d), as all hearing requests made by interested parties were withdrawn.

² In the Preliminary Results, we preliminarily found that Wells, Hong Kong Wells Limited (“HK Wells”), and Hong Kong Wells Limited (USA) (“Wells USA”) are affiliated, pursuant to sections 771(33)(A), (E), and (F) of the Tariff Act of 1930, as amended (“the Act”). We also preliminarily found that Wells and HK Wells should be treated as a single entity for the purposes of this administrative review. See Preliminary Results 76 FR at 68759. For the final results, we continue to find that Wells, HK Wells, and Wells USA are affiliated pursuant to sections 771(33)(A), (E), and (F) of the Act and that Wells and HK Wells comprise a single entity, pursuant to 19 CFR 351.401(f)(1) and (2). See id.

³ See the “Background” section of the “Steel Wire Garment Hangers from the People's Republic of China: Issues and Decision Memorandum for the Final Results of the First Antidumping Duty Administrative Review,” (“Decision Memo”), dated concurrently with this notice, for a discussion of the post-case brief letters submitted by Petitioner and Dingli regarding arguments of untimely filed factual information.

Verification

Pursuant to 19 CFR 351.307(b)(iv), we conducted a verification of Dingli's questionnaire responses.⁴

⁴ From February 22 to February 25, 2011, we verified Dingli's constructed export price (“CEP”) sales responses in the United States. See “Memorandum to the File through Catherine Bertrand, Program Manager, Office 9, from Irene Gorelik, Senior Case Analyst, Office 9, and Joshua Startup, Analyst, Office 9, re: Verification of the Sales Response of Shaoxing Dingli Metal Clotheshorse Co., Ltd., in the Antidumping Duty Administrative Review of Steel Wire Garment Hangers from the People's Republic of China (“PRC”),” dated March 16, 2011 (“CEP Report”). Then, from March 7 to March 11, 2011, we verified Dingli's export price (“EP”) sales and factors of production (“FOP”) responses. See “Memorandum to the File through Catherine Bertrand, Program Manager, Office 9 from Irene Gorelik, Senior Case Analyst, Office 9, and Joshua Startup, Analyst, Office 9, re: Verification of the Sales and Factors Response of Shaoxing Dingli Metal Clotheshorse Co., Ltd. in the Antidumping Duty Administrative Review of Steel Wire Garment Hangers from the People's Republic of China (“PRC”),” dated March 17, 2011 (“EP Report”).

Analysis of Comments Received

All issues raised in the case and rebuttal briefs by parties to this review are addressed in the Decision Memo, which is dated concurrently with this notice. A list of the issues which parties raised and to which we respond in the Decision Memo is attached to this notice as an Appendix. The Decision Memo is a public document and is on file in the Central Records Unit (“CRU”), Main Commerce Building, Room 7046, and is accessible on the Department's Web site at http://www.trade.gov/ia. The paper copy and electronic version of the memorandum are identical in content.

Final Partial Rescission of Review

Pursuant to 19 CFR 351.213(d)(3), the Department preliminarily rescinded the review, in part, with respect to five companies that stated that they made no shipments of subject merchandise during the POR. These companies are: Viet Anh Import-Export Joint Stock Company; Dong Nam A Co., Ltd.; Vietnam Hangers Joint Stock Company; Royal McGoun Chemicals Inc.; and NV Hanger Co., Ltd. See Preliminary Results at 68759. Because the Department did not receive any information to the contrary, we continue to find that these companies did not make any shipments during the POR. Thus, for these final results, we are rescinding this review, in part, with respect to the five above-named companies, in accordance with 19 CFR 351.213(d)(3).

Changes Since the Preliminary Results

Based on a review of the record, the verifications, and comments received from parties regarding our Preliminary Results, we have made changes to the surrogate financial ratio calculation and to the dumping margin calculations for Wells and Dingli in the final results. See Decision Memo at Comment 2. We have also corrected errors from the Preliminary Results alleged by Wells and Dingli. See Decision Memo at Comments 5 and 7. Lastly, we have made certain changes to a portion of Dingli's submitted sales data as a result of the verification findings and minor corrections presented at verification. For all detailed changes made to Dingli's reported sales and factor data, see Decision Memo at Comments 4B and 4F; see also “Memorandum to the File from Josh Startup, Case Analyst: Program Analysis for the Final Results of Antidumping Duty Administrative Review of Steel Wire Garment Hangers from the People's Republic of China: Shaoxing Dingli Metal Clotheshorse Co., Ltd.,” (“Dingli Final Analysis Memo”), dated concurrently with this notice.

Scope of the Order

The merchandise that is subject to the order is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers. Specifically excluded from the scope of the order are wooden, plastic, and other garment hangers that are not made of steel wire. Also excluded from the scope of the order are chrome-plated steel wire garment hangers with a diameter of 3.4 mm or greater. The products subject to the order are currently classified under U.S. Harmonized Tariff Schedule

(“HTSUS”) subheadings 7326.20.0020, 7323.99.9060, and 7323.99.9080.

Although the HTSUS subheadings are provided for convenience and customs purposes, the written description of the merchandise is dispositive.

Separate Rates

In proceedings involving NME countries, it is the Department's practice to begin with a rebuttable presumption that all companies within the country are subject to government control and thus should be assessed a single antidumping duty rate. See Policy Bulletin 5.1 ⁵; see also Notice of Final Determination of Sales at Less Than Fair Value, and Affirmative Critical Circumstances, In Part: Certain Lined Paper Products From the People's Republic of China, 71 FR 53079, 53080 (September 8, 2006); and Final Determination of Sales at Less Than Fair Value and Final Partial Affirmative Determination of Critical Circumstances: Diamond Sawblades and Parts Thereof from the People's Republic of China, 71 FR 29303, 29307 (May 22, 2006).

⁵ See Separate Rates and Combination Rates in Antidumping Investigations involving Non-Market Economy Countries, 70 FR 17233 (April 5, 2005), also available at: http://ia.ita.doc.gov/policy/index.html.

In our Preliminary Results, we determined that the following companies met the criteria for separate rate status: (1) Shaoxing Gangyuan Metal Manufactured Co. Ltd.; Shaoxing Tongzhou Metal Manufactured Co. Ltd.; and Shaoxing Andrew Metal Manufactured Co., Ltd.⁶; (2) Shaoxing Shunji Metal Clotheshorse Co., Ltd.; (3) Yiwu Ao-Si Metal Products Co., Ltd.; (4) Shangyu Baoxiang Metal Manufactured Co., Ltd.; (5) Jiaxing Boyi Medical Device Co., Ltd.; (6) Pu Jiang County Command Metal Products Co., Ltd.; (7) Shaoxing Meideli Metal Hanger Co., Ltd.; (8) Shaoxing Zhongbao Metal Manufactured Co., Ltd.; (9) Zhejiang Lucky Cloud Hanger Co., Ltd.; (10) Ningbo Dasheng Hanger Ind. Co., Ltd.; (11) Shaoxing Guochao Metallic Products Co., Ltd.; (12) Shanghai Jianhai International Trade Co., Ltd.; and (13) Shaoxing Liangbao Metal Manufactured Co., Ltd.

⁶ In the Preliminary Results, we stated that these three companies all reported in their individual separate rate certifications that their affiliations with one another, legal structure, and ownership structure have not changed since the underlying investigation. For the final results, we continue to find that Shaoxing Gangyuan Metal Manufactured Co. Ltd., Shaoxing Tongzhou Metal Manufactured Co. Ltd., and Shaoxing Andrew Metal Manufactured Co., Ltd. comprise a single entity, as determined in the underlying investigation, pursuant to 19 CFR 351.401(f)(1) and (2). See Preliminary Results at 68766; see also Steel Wire Garment Hangers from the People's Republic of China: Final Determination of Sales at Less Than Fair Value, 73 FR 47587, 47589 (August 14, 2008) (“Hangers LTFV”).

Additionally, in the Preliminary Results, we noted that the Department received completed responses to the Section A portion of the NME questionnaire from the individually reviewed respondents (Dingli and Wells), which contained information pertaining to the companies' eligibility for a separate rate. With respect to Wells, we preliminarily determined that there is no PRC ownership, and because the Department has no evidence indicating that Wells is under the control of the PRC, a separate rates analysis was not necessary to determine whether it is independent from government control. With respect to Dingli, we preliminarily granted separate rate status to it based on its submitted information. See Preliminary Results, 75 FR at 68760-62.

We did not receive any information since the issuance of the Preliminary Results that provides a basis for the reconsideration of these preliminary separate rate determinations. Therefore, the Department continues to find that Wells, Dingli, and the 13 above-named, non-individually examined companies meet the criteria for a separate rate.

Separate Rate Calculation

The separate rate is determined based on the estimated weighted-average antidumping margins established for exporters and producers individually investigated, excluding zero and de minimis margins or margins based entirely on AFA.⁷ In this administrative review, one mandatory respondent, Dingli, has an estimated weighted-average antidumping margin which is above de minimis and which is not based entirely on AFA. Therefore, because there is only one weighted-average antidumping margin calculated for these final results that is neither zero, de minimis, nor based entirely on AFA, we have assigned Dingli's margin to the companies not selected for individual examination.⁸

⁷ See Decision Memo at Comment 3.

⁸ See, e.g., Certain Steel Nails From the People's Republic of China: Final Results of the First Antidumping Duty Administrative Review, 76 FR 16379, 16381-16382 (March 23, 2011); Certain Frozen Fish Fillets From the Socialist Republic of Vietnam: Final Results of the Antidumping Duty Administrative Review and New Shipper Reviews, 74 FR 11349, 11350 (March 17, 2009) (where the Department stated “For the exporters subject to review that are determined to be eligible for separate-rate status, but were not selected as mandatory respondents, the Department normally establishes a weighted-average margin based on an average of the rates it calculated for the mandatory respondents, excluding any rates that are zero, de minimis, or based entirely on facts available. In this proceeding, there is only one such mandatory respondent, QVD. Accordingly, the rate calculated for QVD is applied as the rate for Agifish and Anvifish.”).

Facts Available

Section 776(a) of the Act provides that if necessary information is not available on the record, or an interested party: (A) Withholds information that has been requested by the Department; (B) fails to provide such information in a timely manner or in the form or manner requested, subject to sections 782(c)(1) and (e) of the Act; (C) significantly impedes a proceeding under the antidumping statute; or (D) provides such information but the information cannot be verified; the Department shall, subject to subsection 782(d) of the Act, use facts otherwise available in reaching the applicable determination.

Section 782(c)(1) of the Act provides that if an interested party “promptly after receiving a request from (the Department) for information, notifies (the Department) that such party is unable to submit the information requested in the requested form and manner, together with a full explanation and suggested alternative form in which such party is able to submit the information,” the Department may modify its requirements to avoid imposing an unreasonable burden on that party.

Section 782(d) of the Act provides that, if the Department determines that a response to a request for information does not comply with its request, the Department will inform the person submitting the response of the nature of the deficiency and shall, to the extent practicable, provide that person the opportunity to remedy or explain the deficiency. If that person submits further information that continues to be unsatisfactory, or this information is not submitted within the applicable time limits, the Department may, subject to section 782(e), disregard all or part of the original and subsequent responses.

Section 782(e) of the Act states that the Department shall not decline to consider information deemed “deficient” under section 782(d) if: (1) The information is submitted by the established deadline; (2) the information can be verified; (3) the information is not so incomplete that it cannot serve as a reliable basis for reaching the applicable determination; (4) the interested party has demonstrated that it acted to the best of its ability; and (5) the information can be used without undue difficulties.

Furthermore, section 776(b) of the Act states that if the Department “finds that an interested party has failed to cooperate by not acting to the best of its ability to comply with a request for information from the administering authority * * *, the administering authority * * *, in reaching the applicable determination under this title, may use an inference that is adverse to the interests of that party in selecting from among the facts otherwise available.” The Department's determination is in accordance with sections 776(a)(2)(A), (B), and 776(b) of the Act.⁹

⁹ See, e.g., Non-Malleable Cast Iron Pipe Fittings from the People's Republic of China: Final Results of Antidumping Duty Administrative Review, 71 FR 69546 (December 1, 2006) and accompanying Issues and Decision Memorandum at Comment 1. See also Certain Frozen Warmwater Shrimp from the Socialist Republic of Vietnam: Preliminary Results of the First Administrative Review and New Shipper Review, 72 FR 10689, 10692 (March 9, 2007) (decision to apply total AFA to the NME-wide entity) unchanged in Certain Frozen Warmwater Shrimp From the Socialist Republic of Vietnam: Final Results of the First Antidumping Duty Administrative Review and First New Shipper Review, 72 FR 52052 (September 12, 2007) (“Vietnam Shrimp AR1”).

For the final results, in accordance with sections 776(a)(2)(A) and (B) of the Act, we have determined that the use of facts available (“FA”) is appropriate to account for Dingli's consumption of its hydrochloric acid (“HCL”) input in the production of subject merchandise. See Decision Memo at Comment 4C. During the on-site verification of Dingli's sales and factors of production, we found that Dingli failed to report information requested by the Department; specifically, one month of HCL consumption, which is a direct material used to produce subject merchandise. Additionally, for the final results, in accordance with section 776(b) of the Act, we find that Dingli failed to cooperate by not acting to the best of its ability to comply with our request for information and, as a result, have determined that the application of an adverse inference is warranted for Dingli's unreported consumption of HCL. See id.; see also “EP Report” at 2 and 17. As an adverse inference, we are using the highest reported monthly consumption quantity of HCL during the POR as a proxy for the unreported month in the normal value calculation. See “Dingli Final Analysis Memo” for further details.

Final Results of Review

The final weighted-average dumping margins for the POR are as follows:

Steel Wire Garment Hangers From the People's Republic of China
Exporter | Weighted average margin (%)
Shanghai Wells Hanger Co., Ltd. and/or Hong Kong Wells Limited ¹⁰ | 0.15
Shaoxing Dingli Metal Clotheshorse Co., Ltd | 1.71
Shaoxing Gangyuan Metal Manufactured Co. Ltd ¹¹ | 1.71
Shaoxing Andrew Metal Manufactured Co., Ltd | 1.71
Shaoxing Tongzhou Metal Manufactured Co. Ltd | 1.71
Shaoxing Shunji Metal Clotheshorse Co. Ltd | 1.71
Yiwu Ao-Si Metal Products Co., Ltd | 1.71
Shangyu Baoxiang Metal Manufactured Co., Ltd | 1.71
Jiaxing Boyi Medical Device Co., Ltd | 1.71
Pu Jiang County Command Metal Products Co. Ltd | 1.71
Shaoxing Meideli Metal Hanger Co., Ltd | 1.71
Shaoxing Zhongbao Metal Manufactured Co., Ltd | 1.71
Zhejiang Lucky Cloud Hanger Co., Ltd | 1.71
Ningbo Dasheng Hanger Ind. Co., Ltd | 1.71
Shaoxing Guochao Metallic Products Co. Ltd | 1.71
Shanghai Jianhai International Trade Co., Ltd | 1.71
Shaoxing Liangbao Metal Manufactured Co., Ltd | 1.71
PRC-Wide Entity ¹² | 187.25
¹⁰ For the final results, we continue to find that Wells and HK Wells comprise a single entity, as determined in the Preliminary Results, pursuant to 19 CFR 351.401(f)(1) and (2). See Preliminary Results, 75 FR at 68759.
¹¹ For the final results, we continue to find that Shaoxing Gangyuan Metal Manufactured Co. Ltd., Shaoxing Tongzhou Metal Manufactured Co. Ltd., and Shaoxing Andrew Metal Manufactured Co., Ltd. comprise a single entity, as determined in the underlying investigation, pursuant to 19 CFR 351.401(f)(1) and (2). See Preliminary Results, 75 FR at 68766; see also Hangers LTFV, 73 FR at 47589.
¹² The PRC-Wide entity continues to include the 94 companies listed in footnote 17 of the Preliminary Results. See Preliminary Results, 75 FR at 68762.

Assessment

Upon issuance of these final results, the Department will determine, and CBP shall assess, antidumping duties on all appropriate entries covered by these reviews. The Department intends to issue assessment instructions to CBP 15 days after the publication date of the final results of this review excluding any reported sales that entered during the gap period. In accordance with 19 CFR 351.212(b)(1), we calculated exporter/importer (or customer)-specific assessment rates for the merchandise subject to this review. Where the respondent has reported reliable entered values, we calculated importer (or customer)-specific ad valorem rates by aggregating the dumping margins calculated for all U.S. sales to each importer (or customer) and dividing this amount by the total entered value of the sales to each importer (or customer). See 19 CFR 351.212(b)(1). Where an importer (or customer)-specific ad valorem rate is greater than de minimis, we will apply the assessment rate to the entered value of the importers'/customers' entries during the POR. See 19 CFR 351.212(b)(1).

Where we do not have entered values for all U.S. sales, we calculated a per-unit assessment rate by aggregating the antidumping duties due for all U.S. sales to each importer (or customer) and dividing this amount by the total quantity sold to that importer (or customer). See 19 CFR 351.212(b)(1). To determine whether the duty assessment rates are de minimis, in accordance with the requirement set forth in 19 CFR 351.106(c)(2), we calculated importer (or customer)-specific ad valorem ratios based on the estimated entered value. Where an importer (or customer)-specific ad valorem rate is zero or de minimis, we will instruct CBP to liquidate appropriate entries without regard to antidumping duties. See 19 CFR 351.106(c)(2). For the companies receiving a separate rate that were not selected for individual review, we will calculate an assessment rate based on the simple average of the cash deposit rates calculated for the companies selected for individual review pursuant to section 735(c)(5)(B) of the Act.

With respect to the companies upon which we have rescinded this review, we intend to issue assessment instructions to CBP 15 days after publication of this notice. The Department will instruct CBP to assess antidumping duties at rates equal to the cash deposit of estimated antidumping duties required at the time of entry, or withdrawal from warehouse, for consumption, in accordance with 19 CFR 351.212(c)(1)(i).

Cash Deposit Requirements

The following cash-deposit requirements will be effective upon publication of the final results of this administrative review for all shipments of the subject merchandise entered, or withdrawn from warehouse, for consumption on or after the publication date, as provided for by section 751(a)(2)(C) of the Act: (1) For the exporters listed above, the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 187.25 percent; and (4) for all non-PRC exporters of subject merchandise which have not received their own rate, the cash deposit rate will be the rate applicable to the PRC exporters that supplied that non-PRC exporter. These deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act and 19 CFR 351.213(d)(4).

Dated: May 9, 2011.
Ronald K. Lorentzen,
Deputy Assistant Secretary for Import Administration.

Appendix I—Decision Memorandum

General Issues

Comment 1: Treatment of Sales with Negative Margins

Comment 2: Surrogate Financial Ratios

Comment 3: Calculation of the Separate Rate Margin

Company-Specific Issues

Dingli

Comment 4: Whether to Assign Adverse Facts Available (“AFA”) to Dingli

A. U.S. Customs and Border Protection (“CBP”) Data on the Record

B. Hanger Quantity Conversions

C. Hydrochloric Acid (“HCL”) Consumption

D. Weight of Packing Cartons

E. Sale of Machinery

F. Changes to Margin Calculation Per Verification Findings

Comment 5: Calculation of Domestic Movement Expenses

Comment 6: Byproduct Offset for Scrap Iron Buckets

Wells

Comment 7: Calculation of Domestic Movement Expenses

[FR Doc. 2011-11871 Filed 5-12-11; 8:45 am]

BILLING CODE 3510-DS-P